DEPARTMENT OF TRANSPORTATION

Federal Aviation Administration

14 CFR Part 71

[Docket No. FAA-2001-10980; Airspace Docket No. 01-AWP-21]

RIN 2120-AA66

Revision of Jet Route 10

AGENCY: Federal Aviation Administration (FAA), DOT.

ACTION: Final rule.

SUMMARY: This action revises Jet Route 10 (J-10) between the Farmington, NM, Very High Frequency Omnidirectional Radio Range and Tactical Air Navigation Aids (VORTAC), and the HIPPI intersection. The current J-10 route is aligned from Farmington, NM, via the Drake, AZ, VORTAC, to the HIPPI intersection. This action realigns J-10 from Farmington, NM, to the Flagstaff VORTAC, to the HIPPI intersection. This change is part of the FAA's National Airspace Redesign effort and is intended to improve the management of aircraft operations in Arizona.

EFFECTIVE DATE: 0901 UTC, September 4, 2003.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

History

On February 26, 2002, the FAA published in the Federal Register a notice proposing to amend Title 14 Code of Federal Regulations (14 CFR) part 71 to revise J-10, between Farmington, NM, VORTAC, and the HIPPI intersection (67 FR 8743). Interested parties were invited to participate in this rulemaking effort by submitting written comments on the proposal. No comments were received.

The Rule

This action amends 14 CFR part 71 to revise J-10 between the Farmington, NM, VORTAC, and the HIPPI intersection. The current J-10 route is aligned from Farmington, NM, via the Drake, AZ, VORTAC, to the HIPPI intersection. This action realigns J-10 from Farmington, NM, to the Flagstaff VORTAC, to the HIPPI intersection. This change is part of the FAA's National Airspace Redesign effort and is intended to improve the management of aircraft operations in Arizona.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Jet routes are published in paragraph 2004, of FAA Order 7400.9J dated August 31, 2001, and effective September 16, 2001, which is incorporated by reference in 14 CFR 71.1. The jet route listed in this document would be published subsequently in the order.

Environmental Review

In accordance with FAA Order 1050.1D, “Policies and Procedures for Considering Environmental Impacts,” and the National Environmental Policy Act of 1969, this action is not categorically excluded.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9J, Airspace Designations and Reporting Points, dated August 31, 2001, and effective September 16, 2001, is amended as follows:

Paragraph 2004—Jet Routes

J-10 [Revised]

From Los Angeles, CA; via INT Los Angeles 083° and Twentynine Palms, CA, 269° radials; Twentynine Palms; INT of Twentynine Palms 075°and Flagstaff 251°, radials; Flagstaff, AZ; Farmington, NM, Blue Mesa, CO; Falcon, CO; North Platte, NE; Wolbach, NE; Des Moines, IA; to Iowa City, IA.

* * * * *

Issued in Washington, DC, on May 15, 2003.
Reginald C. Matthews,
Manager, Airspace and Rules Division.

[FR Doc. 03-13153 Filed 5-23-03; 8:45 am]

BILLING CODE 4910-13-P